DEPARTMENT OF COMMERCE

International Trade Administration

[A-570-846]

Brake Rotors from the People's Republic of China: Initiation of New Shipper Antidumping Duty Review

AGENCY: Import Administration, International Trade Administration, Department of Commerce.

SUMMARY: The Department of Commerce has received requests to conduct a new shipper review of the antidumping duty order on brake rotors from the People's Republic of China. In accordance with section 751(a)(2)(B) of the Tariff Act of 1930, as amended (“the Act”), and 19 C.F.R. 351.214(d), we are initiating a review for Xiangfen Hengtai Brake System Co., Ltd. and Xianghe Xumingyuan Auto Parts Co., Ltd.

EFFECTIVE DATE: December 3, 2002.

FOR FURTHER INFORMATION CONTACT: Terre Keaton or Davina Hashmi, Import Administration, International Trade Administration, U.S. Department of Commerce, 14th Street and Constitution Avenue, N.W., Washington, D.C. 20230; telephone (202) 482-1280 or 482-0984, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“the Department”) regulations are to 19 C.F.R. Part 351 (April 2002).

Background

The Department has received timely requests from Xiangfen Hengtai Brake System Co., Ltd. (“Hengtai”) and Xianghe Xumingyuan Auto Parts Co., Ltd. (“Xumingyuan”), in accordance with 19 C.F.R. 351.214(c), for a new shipper review of the antidumping duty order on brake rotors from the People's Republic of China (“PRC”), which has an April anniversary date.

As required by 19 C.F.R. 351.214(b)(2)(i) and (iii)(A), each of the exporters identified above, which are also producers, has certified that it did not export brake rotors to the United States during the period of investigation (“POI”), and that it has never been affiliated with any exporter or producer which did export brake rotors during the POI. Each company has further certified that its export activities are not controlled by the central government of the PRC, satisfying the requirements of 19 C.F.R. 351.214(b)(2)(iii)(B). Pursuant to the Department's regulations at 19 C.F.R. 351.214(b)(2)(iv), Hengtai and Xumingyuan each submitted documentation establishing the date on which it first shipped the subject merchandise to the United States, the date of entry of that first shipment, the volume of that shipment and the date of the first sale to an unaffiliated customer in the United States.

In accordance with section 751(a)(2)(B) of the Act and 19 C.F.R. 351.214(b), and based on information on the record, we are initiating a new shipper review for Hengtai and Xumingyuan.

It is the Department's usual practice in cases involving non-market economies to require that a company seeking to establish eligibility for an antidumping duty rate separate from the country-wide rate provide de jure and de facto evidence of an absence of government control over the company's export activities. Accordingly, we will issue a questionnaire to Hengtai and Xumingyuan (including a complete separate rates section), allowing approximately 37 days for response. If the response from each respondent provides sufficient indication that it is not subject to either de jure or de facto government control with respect to its exports of brake rotors, the review will proceed. If, on the other hand, a respondent does not demonstrate its eligibility for a separate rate, then it will be deemed to be affiliated with other companies that exported during the POI and that it did not establish entitlement to a separate rate, and the review of that respondent will be rescinded.

Initiation of Review

In accordance with section 751(a)(2)(B)(ii) of the Act and 19 C.F.R. 351.214(d)(1), we are initiating a new shipper review of the antidumping duty order on brake rotors from the PRC. We intend to issue the preliminary results of this new shipper review not later than 180 days after initiation of this review.

Antidumping Duty Proceeding | Period to be Reviewed
PRC: Brake Rotors, A-570-846
Hengtai Brake System Co., Ltd. | 04/01/02 - 09/30/02
Xianghe Xumingyuan Auto Parts Co., Ltd. | 04/01/02 - 09/30/02

We will instruct the Customs Service to allow, at the option of the importer, the posting, until the completion of the review, of a bond or security in lieu of a cash deposit for each entry of the subject merchandise from the above-listed companies in accordance with 19 C.F.R. 351.214(e). Because Hengtai and Xumingyuan certified that they both produce and export the subject merchandise, the sale of which was the basis for this new shipper review request, we will apply the bonding privilege only to subject merchandise for which they are both the producer and exporter.

Interested parties that need access to proprietary information in this new shipper review should submit applications for disclosure under administrative protective order in accordance with 19 C.F.R. 351.305 and 351.306.

This initiation and notice are in accordance with section 751(a) of the Act (19 U.S.C. 1675(a)) and 19 C.F.R. 351.214(d).

Dated: November 25, 2002.
Susan Kuhbach,
Acting Deputy Assistant Secretary for Import Administration.

[FR Doc. 02-30622 Filed 12-2-02; 8:45 am]

BILLING CODE 3510-DS-S